DEPARTMENT OF ENERGY

Federal Energy Regulatory Commission

Notice Announcing Preliminary Permit Drawing

Lock+ Hydro Friends Fund XXXVII | Project No. 13738-000.
FFP Missouri 6, LLC | Project No. 13761-000.
Solia 1 Hydroelectric, LLC | Project No. 13770-000.

The Commission has received three preliminary permit applications deemed filed on May 18, 2010, at 8:30 a.m.,¹ for proposed projects to be located at the Army Corps of Engineers' Emsworth Back Channel Dam on the Ohio River, in Allegheny County, Pennsylvania. The applications were filed by Lock+ Hydro Friends Fund XXXVII for Project No. 13738, FFP Missouri 6, LLC, for Project No. 13761, and Solia 1 Hydroelectric, LLC for Project No. 13770.

¹ Under the Commission's Rules of Practice and Procedure, any document received after regular business hours is considered filed at 8:30 a.m. on the next regular business day. 18 CFR 385.2001(a)(2) (2010).

On March 24, 2011, at 10 a.m. (eastern time), the Secretary of the Commission, or her designee, will conduct a random drawing to determine the filing priority of the applicants identified in this notice. The Commission will select among competing permit applications as provided in section 4.37 of its regulations.² The priority established by this drawing will be used to determine which applicant, among those with identical filing times, will be considered to have the first-filed application.

² 18 CFR 4.37 (2010).

The drawing is open to the public and will be held in room 2C, the Commission Meeting Room, located at 888 First St., NE., Washington, DC 20426. A subsequent notice will be issued by the Secretary announcing the results of the drawing.

Dated: March 15, 2011.
Nathaniel J. Davis, Sr.,
Deputy Secretary.

[FR Doc. 2011-6773 Filed 3-22-11; 8:45 am]

BILLING CODE 6717-01-P